DEPARTMENT OF ENERGY

Federal Energy Regulatory Commission

[Docket No. EL02-89-000]

Tenaska Power Services Co., Complainant, v. Southwest Power Pool, Inc., Respondent; Notice of Complaint

May 24, 2002.

Take notice that on May 22, 2002, Tenaska Power Services Co. (Tenaska Power) submitted a complaint against Southwest Power Pool Inc. (SPP). Tenaska Power alleges that SPP has violated its Tariff and Commission precedent and policy by refusing to honor Tenaska Power's valid request to rollover a long-term, firm transmission service contract.

A copy of Tenaska Power's Complaint was served on SPP on May 22, 2002.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before June 3, 2002. Protests will be considered by the Commission in determining the appropriate action to be taken, but will not serve to make protestants parties to the proceeding. Any person wishing to become a party must file a motion to intervene. Answers to the complaint shall also be due on or before June 3, 2002. Copies of this filing are on file with the Commission and are available for public inspection. This filing may also be viewed on the web at http://www.ferc.gov using the “RIMS” link, select “Docket#” and follow the instructions (call 202-208-2222 for assistance). Comments, protests, interventions and answers may be filed electronically via the Internet in lieu of paper. See, 18 CFR 385.2001(a)(1)(iii) and the instructions on the Commission's web site under the “e-Filing” link.

Magalie R. Salas,
Secretary.

[FR Doc. 02-13661 Filed 5-30-02; 8:45 am]

BILLING CODE 6717-01-P